DEPARTMENT OF THE TREASURY

Internal Revenue Service

26 CFR Part 1

[REG-137519-01]

RIN 1545-BA09

Consolidated Returns; Applicability of Other Provisions of Law; Non-Applicability of Section 357(c); Hearing Cancellation

AGENCY: Internal Revenue Service (IRS), Treasury.

ACTION: Cancellation of notice of public hearing on proposed rulemaking.

SUMMARY: This document provides notice of cancellation of a public hearing on proposed regulations relating to consolidated returns; applicability of other provisions of law; non-applicability of section 357(c).

DATES: The public hearing originally scheduled for Thursday, March 21, 2002, at 10 a.m is cancelled.

FOR FURTHER INFORMATION CONTACT: Donna Poindexter of the Regulations Unit, Associate Chief Counsel (Income Tax and Accounting), (202) 622-7180 (not a toll-free number).

SUPPLEMENTARY INFORMATION: A notice of proposed rulemaking and notice of public hearing that appeared in the Federal Register on November 14, 2001 (66 FR 57021), announced that a public hearing was scheduled for March 21, 2002, at 10 a.m., in Room 4718, Internal Revenue Service Building, 1111 Constitution Avenue, NW, Washington, DC. The subject of the public hearing is proposed regulations under section 357(c) of the Internal Revenue Code. The public comment period for these proposed regulations expired on February 28, 2002.

The notice of proposed rulemaking and notice of public hearing instructed those interested in testifying at the public hearing to submit a request to speak and an outline of the topics to be addressed. As of February 28, 2002, no one has requested to speak. Therefore, the public hearing scheduled for March 21, 2002, is cancelled.

Cynthia E. Grigsby,
Chief, Regulations Unit, Associate Chief Counsel (Income Tax and Accounting).

[FR Doc. 02-6607 Filed 3-15-02; 10:08 am]

BILLING CODE 4830-01-P